DEPARTMENT OF TRANSPORTATION

Federal Aviation Administration

14 CFR Part 39

[Docket No. 99-NM-129-AD; Amendment 39-14190; AD 2005-15-01]

RIN 2120-AA64

Airworthiness Directives; Lockheed Model L-1011-385 Series Airplanes

AGENCY: Federal Aviation Administration (FAA), Department of Transportation (DOT).

ACTION: Final rule.

SUMMARY: This amendment adopts a new airworthiness directive (AD), applicable to all Lockheed Model L-1011-385 series airplanes, that requires repetitive inspections to detect corrosion or fatigue cracking of certain structural elements of the airplane; corrective actions if necessary; and incorporation of certain structural modifications. This action is necessary to prevent corrosion or fatigue cracking of certain structural elements, which could result in reduced structural integrity of the airplane. This action is intended to address the identified unsafe condition.

DATES: Effective August 26, 2005.

The incorporation by reference of certain publications listed in the regulations is approved by the Director of the Federal Register as of August 26, 2005.

ADDRESSES: The service information referenced in this AD may be obtained from Lockheed Martin Aircraft & Logistics Centers, 120 Orion Street, Greenville, South Carolina 29605. This information may be examined at the Federal Aviation Administration (FAA), Transport Airplane Directorate, Rules Docket, 1601 Lind Avenue, SW., Renton, Washington; or at the FAA, Atlanta Aircraft Certification Office, One Crown Center, 1895 Phoenix Boulevard, suite 450, Atlanta, Georgia.

FOR FURTHER INFORMATION CONTACT: William Herderich, Aerospace Engineer, Airframe Branch, ACE-117A, FAA, Atlanta Aircraft Certification Office, One Crown Center, 1895 Phoenix Boulevard, suite 450, Atlanta, Georgia 30349; telephone (770) 703-6082; fax (770) 703-6097.

SUPPLEMENTARY INFORMATION: A proposal to amend part 39 of the Federal Aviation Regulations (14 CFR part 39) to include an airworthiness directive (AD) that is applicable to all Lockheed Model L-1011-385 series airplanes was published as a supplemental notice of proposed rulemaking (NPRM) in the Federal Register on December 16, 2004 (69 FR 75282). That action proposed to require repetitive inspections to detect corrosion or fatigue cracking of certain structural elements of the airplane; corrective actions if necessary; and incorporation of certain structural modifications.

Comments

Interested persons have been afforded an opportunity to participate in the making of this amendment. Due consideration has been given to the comments received.

Request To Separate Service Bulletins into Two Tables

One commenter requests that Table 1—Compliance Times be split into two tables—an inspection table (Table I) and an inspection/modification table (Table II)—similar to that in Lockheed Tristar L-1011 Service Bulletin 093-51-041, Revision 1, dated March 3, 2000 (referenced in the supplemental NPRM as an appropriate source of service information; hereafter called the “Collector Service Bulletin”). The commenter believes that Table 1 of the supplemental NPRM implies that all listed service bulletins have a terminating modification, which would cause confusion. Whereas Table I lists service bulletins with no terminating action in most cases, and Table II lists service bulletins with terminating actions.

We partially agree. We do not agree that Table 1 of the AD should be split into two tables. As explained in the preamble of the supplemental NPRM, we revised the original NPRM by adding Table 1 for the sole purpose of listing the compliance times for each individual service bulletin listed in Tables I and II of the referenced Lockheed service bulletin. We made this change based on commenters' requests to clarify the compliance times. We agree with the commenter that operators could misinterpret that all service bulletins listed in Table 1 have a terminating modification. Therefore, we have revised Table 1 of the AD by adding a new column “Terminating Action” to identify service bulletins that have a terminating modification.

Request To Include Revision Level of Service Bulletin

One commenter notes that the service bulletin date (i.e., 093-53-054, dated August 12, 1975) identified in paragraph (a)(8) of the supplemental NPRM corresponds to Revision 1 of the service bulletin, not the original issue as indicated.

From this comment, we infer that the commenter is requesting clarification. The commenter is correct that the service bulletin reference should have included “Revision 1.” We have revised paragraph (a)(8) of the final rule accordingly.

Conclusion

After careful review of the available data, including the comments noted above, the FAA has determined that air safety and the public interest require the adoption of the rule with the change previously described. The FAA has determined that this change will neither increase the economic burden on any operator nor increase the scope of the AD.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the supplemental NPRM regarding that material.

Cost Impact

There are approximately 125 airplanes of the affected design in the worldwide fleet. The FAA estimates that 49 airplanes (7 in-service and 42 in storage) of U.S. registry will be affected by this AD. Few, if any of the 42 airplanes in storage, will be returned to service due to the economic feasbility of operating and maintaining older technology airplanes. Therefore, the cost estimate below is based on the 7 in-service airplanes.

It will take approximately 32 work hours per airplane (for actions specified in Table I of the Collector Service Bulletin) and 97 work hours per airplane (for actions specified in Table II of the Collector Service Bulletin) to accomplish the required inspections, at an average labor rate of $65 per work hour. Based on these figures, the cost impact of the AD on U.S. operators is estimated to be $14,560, or $2,080 per airplane, per inspection cycle (for Table I), and $44,135, or $6,305 per airplane, per inspection cycle (for Table II).

It will take approximately 614 work hours per airplane to accomplish the required modifications, at an average labor rate is $65 per work hour. Required parts will cost approximately $142,275 per airplane. Based on these figures, the cost impact of the proposed AD on U.S. operators is estimated to be $1,275,295, or $182,185 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the National Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2005-15-01 Lockheed: Amendment 39-14190. Docket 99-NM-129-AD.

Applicability: All Model L-1011-385 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent corrosion or fatigue cracking of certain structural elements, which could result in reduced structural integrity of the airplane, accomplish the following:

Inspections

(a) At the time specified in the “Initial Compliance Time” column of Table 1 of this AD, perform structural inspections to detect corrosion or fatigue cracking of certain structural elements of the airplane, in accordance with the applicable service bulletins listed under “Service Bulletin Number, Revision, and Date” in Tables I and II of Lockheed Tristar L-1011 Service Bulletin 093-51-041, Revision 1, dated March 3, 2000. Thereafter, repeat the inspections at intervals specified in the “Repetitive Intervals” column of Table 1 of this AD.

Table 1.—Compliance Times
Lockheed TriStar L-1011 service bulletin | Initial compliance time (whichever occurs later between the times in “inspection threshold” and “grace period”): Inspection threshold | Initial compliance time (whichever occurs later between the times in “inspection threshold” and “grace period”): Grace period | Repetitive intervals | Terminating action
(1) 093-53-269, Revision 1, dated October 28, 1997 | Before the accumulation of 8,000 total flight cycles or 15,000 total flight hours, whichever occurs first | Within 6,450 flight cycles or 5 years after the effective date of this AD, whichever occurs first | At intervals not to exceed 6,450 flight cycles or 5 years, whichever occurs first | (None).
(2) 093-53-274, dated May 28, 1997 | Within 14 months after the effective date of this AD | (None) | At intervals not to exceed 14 months | (None).
(3) 093-53-275, dated December 10, 1996 | Within 6,450 flight cycles or 5 years after the effective date of this AD, whichever occurs first | (None) | (None) | (None).
(4) 093-53-276, dated June 17, 1996 | At the next Corrosion Prevention and Control Program (CPCP) inspection after the effective date of this AD | (None) | At intervals not to exceed the next CPCP inspection | (None).
(5) 093-57-085, Revision 1, dated December 1, 1997 | Before the accumulation of 26,000 total flight cycles or 48,000 total flight hours, whichever occurs first | Within 1,800 flight cycles or 3,300 flight hours after the effective date of this AD, whichever occurs first | At intervals not to exceed 1,800 flight cycles or 3,300 flight hours, whichever occurs first | Modification in accordance with Lockheed TriStar L-1011 Service Bulletin 093-57-085, Basic Issue, dated May 7, 1993; or Revision 1, dated December 1, 1997.
(6) 093-57-208, Revision 1, dated October 28, 1997 | Before the accumulation of 18,000 total flight cycles | Within 6,450 flight cycles or 5 years after the effective date of this AD, whichever occurs first | At intervals not to exceed 6,450 flight cycles or 5 years, whichever occurs first | (None).
(7) 093-52-210, dated July 19, 1991 | Within 5,000 flight hours or 18 months after the effective date of this AD, whichever occurs first | (None) | (None) | (None).
(8) 093-53-054, Revision 1, dated August 12, 1975 | Within 6,450 flight cycles or 5 years after the effective date of this AD, whichever occurs first | (None) | (None) | (None).
(9) 093-53-070, Revision 3, dated September 19, 1989 | Before the accumulation of 6,000 total flight hours | Within 1,500 flight hours after the effective date of this AD | At intervals not to exceed 3,000 flight hours | Modification in accordance with Lockheed TriStar L-1011 Service Bulletin 093-53-070, Basic Issue, dated September 26, 1974; Revision 1, dated January 23, 1975; Revision 2, dated July 7, 1975; or Revision 3, dated September 19, 1989.
(10) 093-53- 085, Revision 3, dated December 15, 1989 | Part I: Before the accumulation of 20,000 flight cycles or 37,000 total flight hours, whichever occurs first | Part I: Within 1,600 flight cycles or 3,000 flight hours after the effective date of this AD, whichever occurs first | Part I: At intervals not to exceed 1,600 flight cycles or 3,000 flight hours, whichever occurs first | Modification in accordance with Lockheed TriStar L-1011 Service Bulletin 093-53-085, Basic Issue, dated September 29, 1975; Revision 1, dated September 3, 1976; or Revision 2, dated February 8, 1988.
| Part II: Before the accumulation of 30,000 flight cycles or 55,000 total flight hours, whichever occurs first | Part II: Within 5,000 flight cycles or 9,200 flight hours after the effective date of this AD, whichever occurs first | Part II: At intervals not to exceed 5,000 flight cycles or 9,200 flight hours, whichever occurs first | Modification in accordance with Lockheed TriStar L-1011 Service Bulletin 093-53-085, Basic Issue, dated September 29, 1975; Revision 1, dated September 3, 1976; or Revision 2, dated February 8, 1988.
(11) 093-53- 086, Revision 5, dated April 12, 1990 | Before the accumulation of 9,000 flight cycles or 10,000 flight hours, whichever occurs first | Within 1,600 flight cycles or 3,000 flight hours after the effective date of this AD, whichever occurs first | At intervals not to exceed 1,600 flight cycles or 3,000 flight hours, whichever occurs first | Modification in accordance with Lockheed TriStar L-1011 Service Bulletin 093-53-086, Basic Issue, dated September 26, 1975; Revision 1, dated November 12, 1975; Revision 2, dated December 12, 1976; Revision 3, dated July 19, 1977; Revision 4, dated July 8, 1985; or Revision 5, dated April 12, 1990.
(12) 093-53-110, Revision 1, dated May 7, 1993 | Before the accumulation of 22,000 total flight cycles or 40,000 total flight hours, whichever occurs first | Within 2,200 flight cycles or 4,000 flight hours after the effective date of this AD, whichever occurs first | At intervals not to exceed 2,200 flight cycles or 4,000 flight hours, whichever occurs first | Modification in accordance with Lockheed TriStar L-1011 Service Bulletin 093-53-110, Basic Issue, dated August 19, 1991; or Revision 1, dated May 7, 1993.
(13) Change Notification 093-53-260, CN4, dated May 8, 1998 | Before the accumulation of 8,000 total flight cycles or 20,000 total flight hours, whichever occurs first | Within 800 flight cycles or 1,500 flight hours after the effective date of this AD, whichever occurs first | At intervals not to exceed 800 flight cycles or 1,500 flight hours, whichever occurs first | Inspection and modification in accordance with Part 2.A. of Lockheed TriStar L-1011 Service Bulletin 093-53-260, Basic Issue, dated May 15, 1991.
(14) Change Notification 093-53-266, CN1, dated July 10, 1992 | Within 12 months after the effective date of this AD | (None) | At intervals not to exceed 90 days | Modification in accordance with Lockheed TriStar L-1011 Service Bulletin 093-53-266, Basic Issue, dated March 2, 1992.
(15) Change Notification 093-57-058, R5-CN1, dated May 3, 1993 | Before the accumulation of 20,000 total flight cycles or 37,000 total flight cycles or 37,000 total flight hours, whichever occurs first | Within 1,600 flight cycles or 3,000 flight hours after the effective date of this AD, whichever occurs first | At intervals not to exceed 1,600 flight cycles or 3,000 flight hours, whichever occurs first | Modification in accordance with Lockheed TriStar L-1011 Service Bulletin 093-57-058, Basic Issue, dated September 16, 1975; Revision 1, dated December 1, 1976; Revision 2, dated June 30, 1978; Revision 3, dated October 19, 1978; or Revision 4, dated July 6, 1981, Revision 5, dated June 9, 1983.
(16) Change Notification 093-57-195, R3-CN1, dated August 22, 1995 | For airplanes having serial numbers (S/N) 1002 through 1109 inclusive: Before the accumulation of 20,000 total flight cycles | Within 2,200 flight cycles after the effective date of this AD | At intervals not to exceed 2,200 flight cycles | Modification in accordance with Lockheed TriStar L-1011 Service Bulletin 093-57-195, Revision 2, dated July 27, 1990; or Revision 3, dated June 30, 1992.
| For airplanes having S/Ns 1110 through 1250 inclusive: Before the accumulation of 30,000 total flight cycles |  |  |
(17) Change Notification 093-57-213, CN1, dated February 20, 1996 | For Model L-1011-385-1, L-1011-385-1-14, L-1011-385-1-15: Before the accumulation of 15,000 total flight cycles | Within 6,450 flight cycles or 5 years after the effective date of this AD, whichever occurs first | At intervals not to exceed 6,450 flight cycles or 5 years, whichever occurs first | Repair or modification in accordance with Lockheed TriStar L-1011 Service Bulletin 093-57-213, Basic Issue, dated December 9, 1994.
| For Model L-1011-385-3: Before the accumulation of 10,000 total flight cycles

Corrective Action

(b) If any cracking or corrosion is detected during any inspection required by paragraph (a) of this AD, prior to further flight, accomplish the actions specified in paragraph (b)(1), (b)(2), (b)(3), or (b)(4) of this AD.

(1) Repair in accordance with the applicable service bulletin referenced in Table I or II of Lockheed Tristar L-1011 Service Bulletin 093-51-041, Revision 1, dated March 3, 2000.

(2) Repair in accordance with the applicable section of the Lockheed L-1011 Structural Repair Manual.

(3) Accomplish the terminating modification in accordance with the applicable service bulletin referenced in Table I or II of Lockheed Tristar L-1011 Service Bulletin 093-51-041, Revision 1, dated March 3, 2000.

(4) Repair in accordance with a method approved by the Manager, Atlanta Aircraft Certification Office (ACO), FAA.

Terminating Action

(c) Within 5 years or 5,000 flight cycles after the effective date of this AD, whichever occurs first, install the terminating modification referenced in the applicable service bulletin listed in Table 1 of this AD, per the applicable service bulletin. Such installation constitutes terminating action for the applicable structural inspection required by paragraph (a) of this AD.

Alternative Methods of Compliance

(d) An alternative method of compliance or adjustment of the compliance time that provides an acceptable level of safety may be used if approved by the Manager, Atlanta ACO, FAA. Operators shall submit their requests through an appropriate FAA Principal Maintenance Inspector, who may add comments and then send it to the Manager, Atlanta ACO.

Note 2: Information concerning the existence of approved alternative methods of compliance with this AD, if any, may be obtained from the Atlanta ACO.

Special Flight Permits

(e) Special flight permits may be issued in accordance with sections 21.197 and 21.199 of the Federal Aviation Regulations (14 CFR 21.197 and 21.199) to operate the airplane to a location where the requirements of this AD can be accomplished.

Incorporation by Reference

(f) You must use the applicable service bulletins listed in Table 2 of this AD to perform the actions that are required by this AD, unless the AD specifies otherwise. This incorporation by reference was approved by the Director of the Federal Register in accordance with 5 U.S.C. 552(a) and 1 CFR part 51. Copies may be obtained from Lockheed Martin Aircraft & Logistics Centers, 120 Orion Street, Greenville, South Carolina 29605. Copies may be inspected at the FAA, Transport Airplane Directorate, 1601 Lind Avenue, SW., Renton, Washington; or at the FAA, Atlanta Aircraft Certification Office, One Crown Center, 1895 Phoenix Boulevard, suite 450, Atlanta, Georgia; or at the National Archives and Records Administration (NARA). For information on the availability of this material at NARA, call (202) 741-6030, or go to http://www.archives.gov/federal_register/code_of_federal_regulations/ibr_locations.html.

Table 2.—Material Incorporated by Reference
Service bulletin | Effective pages | Revision level shown on page | Date
(1) Lockheed TriStar L-1011 Service Bulletin 093-51-041, Revision 1, dated March 3, 2000 | 1-13 | 1 | March 3, 2000.
(2) Lockheed TriStar L-1011 Service Bulletin 093-57-085, Revision 1, dated May 7, 1993 | 1-17 | Basic Issue | May 7, 1993.
(3) Lockheed TriStar L-1011 Service Bulletin 093-57-085, Revision 1, dated December 1, 1997 | 1-7, 9, 10 8, 11-7 | 1 Basic Issue | December 1, 1997. May 7, 1993.
(4) Lockheed TriStar L-1011 Service Bulletin 093-53-070, Basic Issue, dated September 26, 1974 | 1-15 | Basic Issue | September 26, 1974.
(5) Lockheed TriStar L-1011 Service Bulletin 093-53-070, Revision 1, dated January 23, 1975 | 1, 4-7, 13-17 2, 3, 8-12 | 1 Basic Issue | January 23, 1975. September 26, 1974.
(6) Lockheed TriStar L-1011 Service Bulletin 093-53-070, Revision 2, dated July 7, 1975 | 1, 2, 7, 9-14 3, 8 4-6, 15-17 | 2 Basic Issue 1 | July 7, 1975. September 26, 1974. January 23, 1975.
(7) Lockheed TriStar L-1011 Service Bulletin 093-53-070, Revision 3, dated September 19, 1989 | 1-6, 8-10 7 | 3 Basic Issue | September 19, 1989. September 26, 1974.
(8) Lockheed TriStar L-1011 Service Bulletin 093-53-085, Basic Issue, dated September 29, 1975 | 1-16 | Basic Issue | September 29, 1975.
(9) Lockheed TriStar L-1011 Service Bulletin 093-53-085, Revision 1, dated September 3, 1976 | 1-3, 6, 9-11, 15 4, 5, 7, 8, 12-14, 16 | 1 Basic Issue | September 3, 1976. September 29, 1975.
(10) Lockheed TriStar L-1011 Service Bulletin 093-53-085, Revision 2, dated February 8, 1988 | 1-23 | 2 | February 8, 1988.
(11) Lockheed TriStar L-1011 Service Bulletin 093-53-086, Basic Issue, dated September 26, 1975 | 1-16 | Basic Issue | September 26, 1975.
(12) Lockheed TriStar L-1011 Service Bulletin 093-53-086, Revision 1, dated November 12, 1975 | 1, 2, 11, 15 3-10, 12-14, 16 | 1 Basic Issue | November 12, 1975. September 26, 1975.
(13) Lockheed TriStar L-1011 Service Bulletin 093-53-086, Revision 2, dated December 12, 1976 | 1, 2, 7, 15, 16 3-6, 8-10, 12-14 11 | 2 Basic Issue 1 | December 12, 1976. September 26, 1975. November 12, 1975.
(14) Lockheed TriStar L-1011 Service Bulletin 093-53-086, Revision 3, dated July 19, 1977 | 1, 2, 4, 7, 10, 11, 15 3, 5, 6, 8, 9, 12-14 16 | 3 Basic Issue 2 | July 19, 1977. September 26, 1975. December 12, 1976.
(15) Lockheed TriStar L-1011 Service Bulletin 093-53-086, Revision 4, dated July 8, 1985 | 1-4, 15, 16 5, 6, 8, 9, 12-14 7, 10, 11 | 4 Basic Issue 3 | July 8, 1985. Sepember 26, 1975. July 19, 1977.
(16) Lockheed TriStar L-1011 Service Bulletin 093-53-086, Revision 5, dated April 12, 1990 | 1-9, 13 10-12 14 | 5 Basic Issue 4 | April 12, 1990. September 26, 1975. July 8, 1985.
(17) Lockheed TriStar L-1011 Service Bulletin 093-53-110, Basic Issue, dated August 19, 1991 | 1-10 | Basic Issue | August 19, 1991.
(18) Lockheed TriStar L-1011 Service Bulletin 093-53-110, Revision 1, dated May 7, 1993 | 1-7, 9-12 8 | 1 Basic Issue | May 7, 1993. August 19, 1991.
(19) Lockheed TriStar L-1011 Service Bulletin 093-53-260, Basic Issue, dated May 15, 1991 | 1-26 | Basic Issue | May 15, 1991.
(20) Lockheed TriStar L-1011 Service Bulletin 093-53-266, Basic Issue, dated March 2, 1992 | 1-17 | Basic Issue | March 2, 1992.
(21) Lockheed TriStar L-1011 Service Bulletin 093-57-058, Basic Issue, dated September 16, 1975 | 1-19 | Basic Issue | September 16, 1975.
(22) Lockheed TriStar L-1011 Service Bulletin 093-57-058, Revision 1, dated December 1, 1976 | 1, 2, 4, 7, 8, 11, 15-19 3, 5, 6, 9, 10, 12-14 | 1 Basic Issue | December 1, 1976. September 16, 1975.
(23) Lockheed TriStar L-1011 Service Bulletin 093-57-058, Revision 2, dated June 30, 1978 | 1-4, 7, 8, 11, 15-19 5, 6, 9, 10, 12-14 | 2 Basic Issue | June 30, 1978. September 16, 1975.
(24) Lockheed TriStar L-1011 Service Bulletin 093-57-058, Revision 3, dated October 19, 1978 | 1-3, 7, 8, 11, 15-19 4 5, 6, 9, 10, 12-14 | 3 2 Basic Issue | October 19, 1978. June 30, 1978. September 16, 1975.
(25) Lockheed TriStar L-1011 Service Bulletin 093-57-058, Revision 4, dated July 6, 1981 | 1-3, 19 4, 15 5, 6, 9, 10, 12-14 7, 8, 11, 16-18 | 4 2 Basic Issue 3 | July 6, 1981. June 30, 1978. September 16, 1975. October 19, 1978.
(26) Lockheed TriStar L-1011 Service Bulletin 093-57-058, Revision 5, dated June 9, 1983 | 1, 3, 4, 7 2 5, 6, 9, 10, 12-14 8, 11, 16-19 15 | 5 4 Basic Issue 3 2 | June 9, 1983. July 6, 1981. September 16, 1975. October 19, 1978. June 30, 1978.
(27) Lockheed TriStar L-1011 Service Bulletin 093-53-070, Revision 2, dated July 27, 1990 | 1-51 | 2 | July 27, 1990.
(28) Lockheed TriStar L-1011 Service Bulletin 093-53-070, Revision 3, dated June 30, 1992 | 1-6, 23-28, 33, 34, 41, 42, 45-52 7-22, 29-32, 35-40, 43, 44 | 3 2 | June 30, 1992. July 27, 1990.
(29) Lockheed TriStar L-1011 Service Bulletin 093-53-070, Basic Issue, dated December 9, 1994 | 1-19 | Basic Issue | December 9, 1994.

Effective Date

(g) This amendment becomes effective on August 26, 2005.

Issued in Renton, Washington, on July 8, 2005.
Ali Bahrami,
Manager, Transport Airplane Directorate, Aircraft Certification Service.

[FR Doc. 05-14089 Filed 7-21-05; 8:45 am]

BILLING CODE 4910-13-P